DEPARTMENT OF COMMERCE

International Trade Administration

[A-552-833]

Raw Honey From the Socialist Republic of Vietnam: Preliminary Affirmative Determination of Critical Circumstances in the Less-Than-Fair-Value Investigation; Correction

AGENCY: Enforcement and Compliance, International Trade Administration, Department of Commerce.

ACTION: Notice; correction

SUMMARY: The Department of Commerce (Commerce) published notice in the Federal Register of January 13, 2022, in which Commerce announced its preliminary determination of critical circumstances in the less-than-fair-value (LTFV) investigation of raw honey from the Socialist Republic of Vietnam (Vietnam). This notice inadvertently omitted the cash deposit requirement for entries of raw honey from Vietnam.

FOR FURTHER INFORMATION CONTACT: Jonathan Hill or Paola Aleman Ordaz, AD/CVD Operations, Office IV, Enforcement and Compliance, International Trade Administration, U.S. Department of Commerce, 1401 Constitution Avenue NW, Washington, DC 20230; telephone: (202) 482-3518 or (202) 482-4031, respectively.

SUPPLEMENTARY INFORMATION:

Correction

In the Federal Register of January 13, 2022, the FR Doc 2022-00579, on page 2130, in the first column, correct the paragraph under the “Suspension of Liquidation,” caption by adding “Additionally, for such entries, CBP shall require a cash deposit equal to the estimated preliminary dumping rates established in the Preliminary Determination. This suspension of liquidation will remain in effect until further notice.” after the sentence ending in “. . . which is 90 days prior to the date of publication of the Preliminary Determination in the Federal Register.”

Background

On January 13, 2022, Commerce published in the Federal Register its preliminary determination of critical circumstances in the LTFV investigation of raw honey from Vietnam.¹ We inadvertently omitted the cash deposit requirement for entries of raw honey from Vietnam.

¹ See Raw Honey from the Socialist Republic of Vietnam: Preliminary Affirmative Determination of Critical Circumstances in the Less-Than-Fair-Value Investigation, 87 FR 2127 (January 13, 2022).

Notification to Interested Parties

This notice is issued and published in accordance with sections 733(f) and 777(i) of the Tariff Act of 1930, as amended, and 19 CFR 351.206(c)(2)(ii).

Dated: February 4, 2022.
Lisa W. Wang,
Assistant Secretary for Enforcement and Compliance.

[FR Doc. 2022-02853 Filed 2-9-22; 8:45 am]

BILLING CODE 3510-DS-P